DEPARTMENT OF COMMERCE

International Trade Administration

Export Trade Certificate of Review

ACTION: Notice of application to amend certificate.

SUMMARY: The Office of Export Trading Company Affairs (“OETCA”), International Trade Administration, Department of Commerce, has received an application to amend an Export Trade Certificate of Review (“Certificate”). This notice summarizes the proposed amendment and requests comments relevant to whether the amended Certificate should be issued.

FOR FURTHER INFORMATION CONTACT: Morton Schnabel, Director, Office of Export Trading Company Affairs, International Trade Administration by phone at (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. A Certificate of Review protects the holder and the members identified in the Certificate from state and federal government antitrust actions and from private, treble damage antitrust actions for the export conduct specified in the Certificate and carried out in compliance with its terms and conditions. Section 302(b)(1) of the Act and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five copies, plus two copies of the nonconfidential version, should be submitted no later than 20 days after the date of this notice in writing to: Office of Export Trading Company Affairs, International Trade Administration, Department of Commerce, Room 1104H, Washington, D.C. 20230, or transmitted by E-mail to oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 97-3A003.”

The Association for the Administration of Rice Quotas, Inc. (“AARQ”) original Certificate was issued on January 21, 1998 (63 FR 4223, January 28, 1998) and lastly amended on September 4, 1998 (63 FR 53013 October 2, 1998). A summary of the application for an amendment follows.

Summary of the Application

Applicant: The Association for the Allocation of Rice Quotas, Inc. (“AARQ”), c/o Thomas Ferrara, AC HUMKO CORP., 7171 Goodlett Farms Parkway, Cordova, Tennessee 38018-4909.

Contact: M. Jean Anderson, Esquire; Telephone: (202) 682-7217.

Application No.: 97-3A003.

Date Deemed Submitted: March 10, 2000.

Proposed Amendment: AARQ seeks to amend its Certificate to:

1. Add the following companies as new “Members” of the Certificate within the meaning of section 325.2(1) of the Regulations (15 CFR 325.2(1)): ADM Latin, Inc., Decatur, Illinois, and ADM Rice, Inc., Tarrytown, New York (subsidiaries of Archer Daniels Midland Company); AFE (USA), Inc., Houston, Texas; California Commodity Traders, LLC, Sacramento, California; California Pacific Rice Milling, Ltd., Arbuckle, California; Family & Sons, Inc., Miami, Florida; Far West Rice, Inc., Durham, California; Glencore Ltd., Stamford, Connecticut (a subsidiary of Glencore International AG), for the activities of Glencore Grain Division and Glencore Ltd.’s subsidiary, LaGrain International Inc., Baton Rouge, Louisiana; Incomar Texas, Ltd. and its subsidiary, Gulf Rice Arkansas, LLC, Houston, Texas; International Grain Brokerage, LLC, Yuba City, California; JFC International Inc., San Francisco, California (a subsidiary of Kikkoman Corp.); Kitoku America, Inc., Davis, California (a subsidiary of Kitoku Co., Ltd.); Mermentau Rice, Inc., Mermentau, Louisiana; Nishimoto Trading Company, Ltd., Los Angeles, California (a subsidiary of Nishimoto Trading Company, Ltd. (Japan)); PS International, Ltd., Durham, North Carolina; Texana Rice, Inc., Houston, Texas; Wehah Farm, Inc., dba Lundberg Family Farms, Richvale, California;

2. Delete the following companies as “Members” of the Certificate within the meaning of section 325.2(1) of the Regulations (15 CFR 325.2(1)): Broussard Rice Mill, Inc.; Cargill, Inc., for the activities of its division, Cargill Rice Milling; Cargill Rice, Inc.; and Gulf Rice Arkansas, Inc.;

3. Change the listings of the current Members as follows: “AC HUMKO, Corp. for the activities of AC HUMKO Rice Specialties, Brinkley Rice Milling Company, and El Campo Rice Milling Company, Dallas, Texas” should be amended to read “AC HUMKO Corp., Cordova, Tennessee;” “Busch Agricultural Resources, Inc., St. Louis, Missouri” and “Pacific International Rice Mills, Inc., Woodland, California” should be amended to read “Busch Agricultural Resources, Inc., St. Louis, Missouri, and its subsidiary, Pacific International Rice Mills, Inc., Woodland, California;” “Continental Grain Company, New York, New York” should be amended to read “ContiGroup Companies, Inc., New York, New York;” “Gulf Rice Milling, Inc.” and “Gulf Pacific Rice Co., Inc.” should be amended to read “Gulf Pacific, Inc., and its subsidiaries, Gulf Pacific Rice Co., Inc., and Gulf Rice Milling, Inc., Houston, Texas;” and “The Connell Company for the activities of Connell Rice & Sugar Co. and Connell International Co.” should be amended to read “The Connell Company, Westfield, New Jersey.”; and

4. Amend the portion of its Certificate entitled “Export Markets” to reflect that, because of the dissolution of the Trust Territory of the Pacific Islands and the formation of several independent nations therefrom, export markets that will serve as the basis for distribution of bid proceeds may include the Republic of the Marshall Islands, the Federated States of Micronesia, and the Republic of Palau.

Dated: March 20, 2000.
Morton Schnabel,
Director, Office of Export Trading Company Affairs.

[FR Doc. 00-7233 Filed 3-22-00; 8:45 am]

BILLING CODE 3510-DR-P